ENVIRONMENTAL PROTECTION AGENCY

[EPA-HQ-OPP-2020-0060; FRL-10015-01]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, pursuant to the Federal Insecticide, Fungicide, and Rodenticide Act (FIFRA). This cancellation order follows a July 30, 2020 Federal Register Notice of Receipt of Requests from the registrants listed in Table 3 of Unit II to voluntarily cancel and amend to terminate uses of these product registrations. In the July 30, 2020 notice, EPA indicated that it would issue an order implementing the cancellations and amendments to terminate uses, unless the Agency received substantive comments within the 30-day comment period that would merit its further review of these requests, or unless the registrants withdrew their requests. The Agency received one anonymous public comment on the notice, but it didn't merit its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective September 23, 2020.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2020-0060, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

This notice announces the cancellations and amendments to terminate uses, as requested by the registrants, of products registered under FIFRA section 3 (7 U.S.C. 136a). These registrations are listed in sequence by registration number in Tables 1, 1A and 2 of this unit.

Table 1—Product Cancellations
Registration No. | Company No. | Product name | Active ingredients
241-409 | 241 | Oasis Herbicide | 2,4-D, 2-ethylhexyl ester & Imazapic.
241-425 | 241 | Glyphosate Residual RTU | Glyphosate-isopropylammonium & Imazapic-ammonium.
241-442 | 241 | Imazapic E 2l Herbicide | Imazapic-ammonium.
241-444 | 241 | ETI 115 01 H | Imazapic-ammonium.
264-1069 | 264 | Trilex Advanced 300 | Metalaxyl; Triadimenol & Trifloxystrobin.
352-600 | 352 | DPX-MX670 MT | Atrazine & Dimethenamid.
352-693 | 352 | Dupont Diuron MUP | Diuron.
352-703 | 352 | Dupont Diuron Technical | Diuron.
352-849 | 352 | Dupont Diuron 80 Dry Herbicide | Diuron.
464-8132 | 464 | Aqucar PS 75W MUP Water Treatment Microbiocide (Alternate Name) | Tetrakis (hydroxymethyl) phosphonium sulphate (THPS).
881-10 | 881 | Richo Bock Sanitizing Rinse | Oxirane, methyl-, polymer with oxirane, monobutyl ether, compd. with iodine.
1258-1324 | 1258 | Vantocil NR | Poly (iminoimidocarbonyliminoimidocarbonyliminohexamethylene) hydrochloride.
5481-600 | 5481 | Tri-Scept Herbicide | Trifluralin & 3-Quinolinecarboxylic acid, 2-(4,5-dihydro-4-methyl-4-(1-methylethyl)-5-oxo-1H-imidazol-2-yl)-, monoammonium salt.
8378-17 | 8378 | 25-5-10 Turf Food with Crabgrass Control | Trifluralin & Benfluralin.
8378-18 | 8378 | Shaw's Premium Turf Food with Crabgrass Control | Trifluralin & Benfluralin.
8378-19 | 8378 | Premium Lawn Food with Crabgrass Control | Trifluralin & Benfluralin.
8378-20 | 8378 | Shaw's 18-5-9 Turf Food with XL Crabgrass Control | Trifluralin & Benfluralin.
8378-37 | 8378 | Shaw's Turf Food & Crabgrass Control W/Team 142 | Trifluralin & Benfluralin.
8660-165 | 8660 | Sta-Green Flower & Garden Weed Preventer | Trifluralin.
8660-166 | 8660 | Flower & Garden Weed Preventer Plus Fertilizer | Trifluralin.
9688-133 | 9688 | Chemsico Green 'N Weed 15-15-15 | Trifluralin.
10088-56 | 10088 | Malathion 57% | Malathion (NO INERT USE).
34704-970 | 34704 | LPI ET 75 | Imidacloprid.
34704-1009 | 34704 | Malice 75 WSP | Imidacloprid.
39967-69 | 39967 | Preventol A20 | Triadimefon & Tebuconazole.
39967-70 | 39967 | Preventol A20 Preservative | Triadimefon & Tebuconazole.
45385-66 | 45385 | Chem-Tox Mal 50-OS | Malathion (NO INERT USE).
47000-77 | 47000 | CPI Disinfectant Cleaner 30-3 | 1-Decanaminium, N-decyl-N,N-dimethyl-, chloride.
49585-25 | 49585 | Garden Weeder | Trifluralin.
62719-614 | 62719 | Firststep Herbicide Tank Mix | Glycine, N-(phosphonomethyl)-, compd. with N-methylmethanamine (1:1) & Florasulam.
65656-7 | 65656 | Dicamba Acid Technical | Dicamba.
66330-274 | 66330 | Bacillus Cereus BP01 Technical | Bacillus cereus strain BP01.
66330-282 | 66330 | BP01 1.7 | Bacillus cereus strain BP01.
66330-291 | 66330 | PGR-IV/BP Foliar | Gibberellic acid & Bacillus cereus strain BP01.
66330-351 | 66330 | Pix Plus Plant Regulator | Mepiquat chloride & Bacillus cereus strain BP01.
67071-74 | 67071 | Acticide SR 8213 C | Zinc pyrithione; 1,2-Benzisothiazolin-3-one & 2-Methyl-3(2H)-isothiazolone.
67071-97 | 67071 | Acticide LPN 11 (Alternate) | Zinc pyrithione; 1,2-Benzisothiazolin-3-one & 2-Methyl-3(2H)-isothiazolone.
ID-110006 | 7969 | Liberty 280 SL Herbicide | Glufosinate.
MI-080003 | 62719 | Starane Ultra | Fluroxypyr-meptyl.
WA-150001 | 61842 | Lime-Sulfur Solution | Lime sulfur.

Table 1A—Product Cancellations
Registration No. | Company No. | Product Name | Active ingredients
56228-32 | 56228 | M-44 Cyanide Capsules Arctic Fox | Sodium cyanide.

The registrant of the product listed in Table 1A, of Unit II, has requested the effective date of December 31, 2019, for the cancellation.

Table 2—Product Registration Amendments To Terminate Uses
Registration No. | Company No. | Product name | Active ingredient | Uses to be terminated
34704-858 | 34704 | Sniper | Bifenthrin | Alfalfa Grown for Seed.
71711-4 | 71711 | Akari 5SC Miticide/Insecticide | Fenpyroximate | Cranberry and Highbush Cranberry.
71711-18 | 71711 | Fenpyroximate Technical | Fenpyroximate | Cranberry and Highbush Cranberry.
71711-19 | 71711 | Fujimite 5EC Miticide/Insecticide | Fenpyroximate | Cranberry and Highbush Cranberry.
71711-40 | 71711 | NAI-2399-2 5EC Miticide/Insecticide | Fenpyroximate | Cranberry and Highbush Cranberry.
71711-54 | 71711 | Fenpyroximate 5SC MUP | Fenpyroximate | Cranberry and Highbush Cranberry.
71711-60 | 71711 | Fenpyroximate 5EC MUP | Fenpyroximate | Cranberry and Highbush Cranberry.

Table 3 of this unit includes the names and addresses of record for all the registrants of the products listed in Tables 1, 1A and 2 of this unit, in sequence by EPA company number. This number corresponds to the first part of the EPA registration numbers of the products listed in Table 1, Table 1A and Table 2 of this unit.

Table 3—Registrants of Cancelled and Amended Products
EPA company No. | Company name and address
241 | BASF Corporation, 26 Davis Drive, P.O. Box 13528, Research Triangle Park, NC 27709-3528.
264 | Bayer CropScience, LP, 800 N. Lindbergh Blvd., St. Louis, MO 63167.
352 | E. I. Du Pont De Nemours and Company, 9330 Zionsville Road, Indianapolis, IN 46268.
464 | Nutrition & Biosciences USA 1, LLC., 1652 Larkin Center Drive, 100 Larkin Center, Midland, MI 48642.
881 | Richardson Chemical Products Co., P.O. Box 240014, Milwaukee, WI 53224.
1258 | Arch Chemicals, Inc., 1200 Bluegrass Lakes Parkway, Alpharetta, GA 30004.
5481 | AMVAC Chemical Corporation, 4695 MacArthur Court, Suite 1200, Newport Beach, CA 92660-1706.
7969 | BASF Corporation, Agricultural Products, 26 Davis Drive, P.O. Box 13528, Research Triangle Park, NC 27709-3528.
8378 | Knox Fertilizer Company, Inc., Agent Name: Fred Betz Regulatory Strategies, 922 Melvin Road, Annapolis, MD 21403.
8660 | United Industries Corp., D/B/A Sylorr Plant Corp., P.O. Box 142642, St. Louis, MO 63114-0642.
9688 | Chemsico, A Division of United Industries Corp., P.O. Box 142642, St Louis, MO 63114-0642.
10088 | Athea Laboratories, Inc., P.O. Box 240014, Milwaukee, WI 53224.
34704 | Loveland Products, Inc., P.O. Box 1286, Greeley, CO 80632-1286.
39967 | Lanxess Corporation, 111 RIDC Park West Drive, Pittsburgh, PA 15275-1112.
45385 | CTX-Cenol, Inc., 1393 East Highland Rd., Twinsburg, OH 44087.
47000 | Chem-Tech, Ltd., 620 Lesher Place, Lansing, MI 48912.
49585 | Alljack, Division of United Industries Corp., P.O. Box 142642, St. Louis, MO 63114-0642.
56228 | U.S. Department of Agriculture, Animal and Plant Health Inspection Service, 4700 River Road, Unit 149, Riverdale, MD 20737.
61842 | Tessenderlo Kerley, Inc., Agent Name: Pyxis Regulatory Consulting, Inc., 4110 136th Street Ct., NW, Gig Harbor, WA 98332.
62719 | Dow Agrosciences, LLC, 9330 Zionsville Rd., 308/2E, Indianapolis, IN 46268-1054.
65656 | Gilmore Marketing and Development, Agent Name: Biologic Regulatory Consulting, Inc., 10529 Heritage Bay Blvd., Naples, FL 34120.
66330 | Arysta Lifescience North America, LLC, Agent Name: UPL NA, Inc., 630 Freedom Business Center, Suite 402, King of Prussia, PA 19406.
67071 | Thor GMBH, Agent Name: Thor Specialties, Inc., 50 Waterview Drive, Shelton, CT 06484.
71711 | Nichino America, Inc., 4550 Linden Hill Road, Suite 501, Wilmington, DE 19808.

III. Summary of Public Comments Received and Agency Response to Comments

During the public comment period provided, EPA received one anonymous public comment in response to the July 30, 2020 Federal Register notice announcing the Agency's receipt of the requests for voluntary cancellations and amendments to terminate uses of the products listed in Tables 1, 1A and 2 of Unit II. For this reason, the Agency does not believe that the comment submitted during the comment period merits further review or a denial of the requests for voluntary cancellation or use termination.

IV. Cancellation Order

Pursuant to FIFRA section 6(f) (7 U.S.C. 136d(f)(1)), EPA hereby approves the requested cancellations and amendments to terminate uses identified in Tables 1, 1A and 2 of Unit II. Accordingly, the Agency hereby orders that the product registrations identified in Tables 1 and 2 of Unit II are canceled and amended to terminate the affected uses. The effective date of the cancellations that are subject of this notice is September 23, 2020. The effective date of the cancellation in Table 1A is December 31, 2019. Any distribution, sale, or use of existing stocks of the products identified in Tables 1, 1A and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 30, 2020 (85 FR 45877) (FRL-10012-40). The comment period closed on August 31, 2020.

VI. Provisions for Disposition of Existing Stocks

Existing stocks are those stocks of registered pesticide products which are currently in the United States and which were packaged, labeled, and released for shipment prior to the effective date of the action. The existing stocks provision for the products subject to this order is as follows:

A. For Product 56228-32

For the 56228-32 listed in Table 1A of Unit II, the registrant has requested the effective date of the cancellation to be December 31, 2019; therefore, the registrant will be permitted to sell and distribute existing stocks of this product until December 31, 2020. Thereafter, the registrant will be prohibited from selling or distributing the product in Table 1A of Unit II, except for export consistent with FIFRA section 17 (7 U.S.C. 136o) or for proper disposal.

B. For All Other Voluntary Cancellations, Identified in Table 1 of Unit II

For all other voluntary cancellations, identified in Table 1 of Unit II, the registrants may continue to sell and distribute existing stocks of the products listed in Table 1 until September 23, 2021, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute the products listed in Table 2 of Unit II under the previously approved labeling until March 23, 2022, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of the canceled products and products whose labels include the terminated uses until supplies are exhausted, provided that such sale, distribution, or use is consistent with the terms of the previously approved labeling on, or that accompanied, the canceled products and terminated uses.

Authority: 7 U.S.C. 136 et seq.

Dated: September 17, 2020.
Delores Barber,
Director, Information Technology and Resources Management Division, Office of Pesticide Programs.

[FR Doc. 2020-21004 Filed 9-22-20; 8:45 am]

BILLING CODE 6560-50-P